DEPARTMENT OF THE TREASURY

Customs Service

19 CFR Part 141

[T.D. 02-28]

Technical Amendment to the Customs Regulations: Reusable Shipping Devices Arriving From Canada and Mexico

AGENCY: Customs Service, Department of the Treasury.

ACTION: Final rule.

SUMMARY: This document amends the Customs Regulations to include certain reusable shipping devices arriving from Canada or Mexico in the list of merchandise excepted from the requirement that all merchandise imported into the United States be entered. The substantive regulation allowing for these types of devices to be excepted from entry is set forth in § 10.41b(b) of the Customs Regulations. During a periodic review of its regulations to ensure that they are current, correct and consistent, Customs noted that in § 141.4 of the Customs Regulations, the list of merchandise excepted from the entry requirement did not cross-reference § 10.41b(b). This document remedies that omission.

EFFECTIVE DATE: May 23, 2002.

FOR FURTHER INFORMATION CONTACT: Glen Vereb, Office of Regulations and Rulings, 202-927-1327.

SUPPLEMENTARY INFORMATION:

Background

Under § 141.4(a), Customs Regulations (19 CFR 141.4(a)), all merchandise imported into the United States is required to be entered, unless specifically excepted. The exceptions from the general rule that all imported merchandise must be entered are set forth in § 141.4(b), Customs Regulations (19 CFR 141.4(b)). In particular, § 141.4(b)(3) excepts instruments of international trade as described in § 10.41a, Customs Regulations (19 CFR 10.41a). In addition to this exemption from entry, however, certain reusable shipping devices arriving from Canada or Mexico are also exempted from entry pursuant to § 10.41b(b), Customs Regulations (19 CFR 10.41b(b)), as amended by Treasury Decision (T.D.) 96-20 (61 FR 7987) of March 1, 1996.

Accordingly, this document amends § 141.4(b)(3), Customs Regulations (19 CFR 141.4(b)(3)), to include a reference to § 10.41b(b), in order to reflect that reusable shipping devices from Canada or Mexico are also exempted from Customs entry requirements. Furthermore, a reference is added in § 141.4(b)(3) to Chapter 98, Subchapter III, U.S. Note 3, Harmonized Tariff Schedule of the United States (HTSUS), which provides the underlying legal authority for the exemption of the specified shipping devices from Customs entry requirements.

Administrative Procedure Act, the Regulatory Flexibility Act and Executive Order 12866

Because the amendments merely conform with existing law or regulation, notice and public procedure are unnecessary, and for the same reason, pursuant to 5 U.S.C. 553(d)(3), a delayed effective date is not required. Because no notice of proposed rulemaking is required, the provisions of the Regulatory Flexibility Act (5 U.S.C. 601 et seq.) do not apply. Nor do these amendments meet the criteria for a “significant regulatory action” as specified in Executive Order 12866.

Drafting Information

The principal author of this document was Janet L. Johnson, Regulations Branch, Office of Regulations and Rulings, U.S. Customs Service. However, personnel from other offices participated in its development.

List of Subjects In 19 CFR Part 141

Customs duties and inspection, Entry of merchandise, Release of merchandise, Reporting and recordkeeping requirements.

Amendment to the Regulation

Part 141, Customs Regulations (19 CFR 141) is amended as set forth below.

PART 141—ENTRY OF MERCHANDISE

1. The general authority citation for Part 141, Customs Regulations, continues to read, and the specific sectional authority for § 141.4 is revised to read, as follows:

Authority: 19 U.S.C. 66, 1448, 1484, 1624.

* * * * *

Section 141.4 also issued under 19 U.S.C 1202 (General Note 19; Chapter 86, Additional U.S. Note 1; Chapter 89, Additional U.S. Note 1; Chapter 98, Subchapter III, U.S. Notes 3 and 4; Harmonized Tariff Schedule of the United States), 1498;

* * * * *

2. Section 141.4 is amended by revising paragraph (b)(3) to read as follows:

§ 141.4 Entry required.

* * * * *

(b) Exceptions.

* * *

(3) Instruments of international traffic described in § 10.41a and § 10.41b(b) of this chapter, under the conditions provided for in those sections. See also Chapter 98, Subpart III, U.S. Notes 3 and 4, HTSUS.

* * * * *

Robert C. Bonner,
Commissioner of Customs.
Approved: May 17, 2002.
Timothy E. Skud,
Deputy Assistant Secretary of the Treasury.

[FR Doc. 02-12938 Filed 5-22-02; 8:45 am]

BILLING CODE 4820-02-P